DEPARTMENT OF HEALTH AND HUMAN SERVICES

Centers for Disease Control and Prevention

Advisory Committee for Injury Prevention and Control (ACIPC)

In accordance with Section 10(a)(2) of the Federal Advisory Committee Act (Pub. L. 92-463), the Centers for Disease Control and Prevention (CDC) announces the following subcommittee and committee meetings.

Name: Science and Program Review Subcommittee (SPRS).

Time and Date: 1 p.m.-2 p.m., July 30, 2008.

Place: Meeting will be conducted via telephone conference. 4770 Buford Highway, NE., Building 106, 1st Floor, Room 1C, Atlanta, Georgia 30341-3724.

Status: Closed: 1 p.m.-2 p.m., July 30, 2008.

Purpose: The Science and Program Review Subcommittee (SPRS) provides advice on the needs, structure, progress and performance of programs of the National Center for Injury Prevention and Control (NCIPC).

Matters To Be Discussed: The subcommittee will meet July 30, 2008, to provide a secondary review of, discuss, and evaluate the individual research grant and cooperative agreement applications submitted in response to one Fiscal Year 2008 Requests for Applications (RFAs) related to the following individual research announcements: CD-08-001, Elimination of Health Disparities through Translation Research (R18). The applications being reviewed include information of a confidential nature, including personal and financial information concerning individuals associated with the applications.

Following this meeting, the voting members of ACIPC will meet via teleconference to vote on the recommendations of the SPRS regarding the RFAs. This call will take place on July 30, 2008, from 2 p.m.-3 p.m.

Name: Advisory Committee for Injury Prevention and Control.

Time and Date: 2 p.m.-3 p.m., July 30, 2008.

Place: Meeting will be conducted via telephone conference. 4770 Buford Highway, NE., Building 106, 1st Floor, Room 1C, Atlanta, GA 30341-3724.

Status: Closed: 2 p.m.-3 p.m., July 30, 2008.

Purpose: The committee advises and makes recommendations to the Secretary, Department of Health and Human Services, the Director, Centers for Disease Control and Prevention, and the Director, National Centers for Injury Prevention and Control (NCIPC) regarding feasible goals for the prevention and control of injury. The committee makes recommendations regarding policies, strategies, objectives, and priorities, and reviews progress toward injury prevention and control.

Matters To Be Discussed: Agenda items for the open portion include the call to order and introductions and request for public comments. Beginning at 2:15 p.m., July 30, 2008, through 3 p.m., during the closed portion, the Committee will vote on the results of the secondary review. This portion of the meeting will be closed to the public in accordance with the provisions set forth in section 552b(c)(4) and (b), title 5 U.S.C., and the Determination of the Director, Management Analysis and Services Office, CDC pursuant to Pub L. 92-463.

Agenda items are subject to change as priorities dictate.

Contact Person for More Information: Ms. Amy Harris, Executive Secretary, ACIPC, NCIPC, CDC, 4770 Buford Highway, NE., M/S F-63, Atlanta, Georgia 30341-3724, telephone (770) 488-4936. The Director, Management Analysis and Services Office, has been delegated the authority to sign Federal Register notices pertaining to announcements of meetings and other committee management activities, for both CDC and the Agency for Toxic Substances and Disease Registry.

Dated: July 8, 2008.
Diane Allen,
Acting Director, Management Analysis and Services Office, Centers for Disease Control and Prevention.

[FR Doc. E8-15924 Filed 7-11-08; 8:45 am]

BILLING CODE 4163-18-P